DEPARTMENT OF LABOR

Employment and Training Administration

[TA-W-53,914]

Intermetro Industries Corp., Cucamonga, CA; Notice of Termination of Investigation

Pursuant to section 221 of the Trade Act of 1974, an investigation was initiated on December 31, 2003, in response to a petition filed by a company official on behalf of workers at InterMetro Industries Corporation, Cucamonga, California.

The petitioner has requested that the petition be withdrawn. Consequently, the investigation has been terminated.

Signed in Washington, DC, this 12th day of January, 2004.
Elliott S. Kushner,
Certifying Officer, Division of Trade Adjustment Assistance.

[FR Doc. 04-2612 Filed 2-5-04; 8:45 am]

BILLING CODE 4510-30-P